DEPARTMENT OF JUSTICE

Notice of Lodging Proposed Consent Decree

In accordance with Departmental Policy, 28 CFR 50.7, notice is hereby given that a proposed Consent Decree in United States, et al. v. Chesapeake Appalachia, LLC, Civil Action No. 4:21-00538-MWB, was lodged with the United States District Court for the Middle District of Pennsylvania on March 24, 2021.

This proposed Consent Decree concerns a complaint filed by the United States and the Commonwealth of Pennsylvania, Department of Environmental Protection, against Defendant Chesapeake Appalachia, LLC, pursuant to Sections 309(b) and (d) of the Clean Water Act, 33 U.S.C. 1319(b) & (d), to obtain injunctive relief from and impose civil penalties against the Defendant for violating the Clean Water Act by discharging pollutants without a permit into waters of the United States. The proposed Consent Decree resolves these allegations by requiring the Defendant to restore the impacted areas and/or perform mitigation and to pay a civil penalty.

The Department of Justice will accept written comments relating to this proposed Consent Decree for thirty (30) days from the date of publication of this Notice. Please address comments to Laura J. Brown, Environmental Defense Section, Environment and Natural Resources Division, United States Department of Justice, Post Office Box 7611, Washington, DC 20044-7611, pubcomment_eds.enrd@usdoj.gov, and refer to United States, et al. v. Chesapeake Appalachia, LLC, DJ # 90-5-1-1-20432.

The proposed Consent Decree may be examined at the Clerk's Office, United States District Court for the Middle District of Pennsylvania, Herman T. Schneebeli Federal Building and United States Courthouse, 240 West Third Street, Suite 218, Williamsport, PA 17701. In addition, the proposed Consent Decree may be examined electronically at http://www.justice.gov/enrd/consent-decrees.

Cherie Rogers,
Assistant Section Chief, Environmental Defense Section, Environment and Natural Resources Division.

[FR Doc. 2021-06533 Filed 3-29-21; 8:45 am]

BILLING CODE 4410-CW-P